ENVIRONMENTAL PROTECTION AGENCY

[FRL-7474-8]

Proposed Administrative Cost Recovery Agreement under CERCLA Section 122(h) for Recovery of Past Costs at the Sealand Restoration Superfund Site, Lisbon, St. Lawrence County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given of a proposed administrative settlement, entered into pursuant to section 122(h) of CERCLA, 42 U.S.C. 9622(h), for recovery of past response costs concerning the Sealand Restoration Superfund Site (“Site”) located in Lisbon, St. Lawrence County, New York. The settlement is between the U.S. Environmental Protection Agency (“EPA”) and the General Motors Corporation (“GMC”). The settlement requires GMC to pay $430,000.00 to EPA, in reimbursement of past response costs incurred with respect to the Site. The settlement includes a covenant not to sue the settling party pursuant to section 107(a) of CERCLA, 42 U.S.C. 9607(a), for all costs that EPA or the U.S. Department of Justice on behalf of EPA paid at or in connection with the Site through September 30, 2002. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at the EPA, Region 2, 290 Broadway, New York, New York 10007-1866.

DATES: Comments must be submitted on or before April 28, 2003.

ADDRESSES: The proposed settlement is available for public inspection at the United States Environmental Protection Agency, 290 Broadway, New York, New York 10007-1866. A copy of the proposed settlement may be obtained from James Doyle, Assistant Regional Counsel, Office of Regional Counsel, New York/Caribbean Superfund Branch, EPA, Region 2, 290 Broadway, 17th Floor, New York, New York 10007-1866. Comments should reference the Sealand Restoration Superfund Site located in Lisbon, St. Lawrence County, New York. Requests for a copy of the agreement should reference Docket No. CERCLA-02-2003-2007. Any comments or requests should be addressed to James Doyle at the above address.

FOR FURTHER INFORMATION CONTACT: James Doyle, Assistant Regional Counsel, Office of Regional Counsel, New York/Caribbean Superfund Branch, EPA, Region 2, 290 Broadway, 17th Floor, New York, New York 10007-1866. Telephone: (212) 637-3165.

Dated: March 14, 2003.
William J. Muszynski,
Deputy Regional Administrator, United States Environmental Protection Agency, Region II.

[FR Doc. 03-7508 Filed 3-27-03; 8:45 am]

BILLING CODE 6560-50-P